DEPARTMENT OF COMMERCE

Economic Development Administration

Notice of Petitions by Producing Firms for Determination of Eligibility To Apply for Trade Adjustment Assistance

AGENCY: Economic Development Administration (EDA), Commerce.

ACTION: To give all interested parties an opportunity to comment.

Petitions have been accepted for filing on the dates indicated from the firms listed below.

List of Petition Action by Trade Adjustment Assistance for Period September 22, 2003-October 27, 2003
Firm name | Address | Date petition accepted | Product
Automatic Machine Products Co., Inc | 17 Wall Street, Attleboro, MA 02703 | 09/26/03 | Valves and screw machine parts and assemblies used in refrigerators and air conditioners.
Central Tools, Inc | 456 Wellington Avenue, Cranston, RI 02910 | 10/27/03 | Precision measuring tools for the automotive industry.
Cotta Transmission Co., LLC | 1301 Prince Hall Drive, Beloit, WI 53411 | 10/07/03 | Gear boxes for non-vehicle use.
Fend Corp. dba J. Custom Supply Company | 6141 Highway 19, Zachary, LA 70791 | 10/14/03 | Cable assemblies.
Higgins Acquisition, Inc. dba Venture Products, Inc | 1511 Main Street, Oran, MO 63771 | 10/01/03 | Golf and baseball caps.
MPI, Incorporated | 165 Smith Street, Poughkeepsie, NY 12601 | 10/02/03 | Injection molding machines for processing thermoplastics.
Melron Corporation | 8110 Technology Drive, Schofield, WI 54476 | 10/15/03 | Cast architectural metal hardware—handles, latches and strike plates for windows.
Mark VII Equipment, Inc | 5981 Tennyson Street, Arvada, CO 80003 | 10/20/03 | Car wash systems—mechanical appliances for projecting, dispersing or spraying liquids or powders.
Norit Americas, Inc | 3200 West University Ave., Marshall, TX 75671 | 09/23/03 | Activated carbon.
Peerless Pottery, Inc | 671 North Lincoln Avenue, Rockport, IN 47635 | 10/27/03 | Vitreous china bathroom fixtures—water closets, urinals and lavatories.
Porter Medical Products, Inc | 1609 S. SR 15-A, Deland, FL 32720 | 09/29/03 | Surgical aortic punches for cardiac bypass surgery.
Southwest Textiles, Inc | P.O. Box 710, Abernathy, TX 79311 | 09/22/03 | Cotton yarn.
Stanley Jeans Corp. dba Earl's Apparel, Inc | 908 South 4th Street, Crockett, TX 75835 | 09/22/03 | Men's trousers of cotton.
Shuford Mill, Inc | P.O. Box 2228 Hickory, NC 28603 | 10/15/03 | Yarns of woven cotton, poly-cotton, polyester and acrylic.
Trailmate, Inc | 2359 Trailmate Drive, Sarasota, FL 34243 | 09/26/03 | Recreational specialty cycles including edgers and high-level lawn mowers.
Tricon Timber, LLC | 126 Highway 135, Saint Regis, MT 59866 | 10/22/03 | Coniferous lumber studs.
USCOA International Corporation | 160 Coco Street, St. George, SC 29477 | 10/20/03 | Doormats of cocoa fiber.
Zero Defects, Inc | 1420 East Third Avenue, Post Falls, ID 83854 | 10/22/03 | Wire harnesses for power supply distribution boards.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter. A request for a hearing must be received by Trade Adjustment Assistance, Room 7315, Economic Development Administration, U.S. Department of Commerce, Washington, D.C. 20230, no later than the close of business of the tenth calendar day following the publication of this notice.

(The Catalog of Federal Domestic Assistance official program number and title of the program under which these petitions are submitted is 11.313, Trade Adjustment Assistance.)
Dated: October 27, 2003.
Anthony J. Meyer,
Coordinator, Trade Adjustment and Technical Assistance.

[FR Doc. 03-27792 Filed 11-4-03; 8:45 am]

BILLING CODE 3510-24-U